DEPARTMENT OF JUSTICE

Antitrust Division

Notice Pursuant to the National Cooperative Research and Production Act of 1993—Medical CBRN Defense Consortium

Notice is hereby given that, on January 28, 2019, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Altimmune, Inc., Gaithersburg, MD; Attogene Corp, Austin, TX; Autonomous Therapeutics, Inc., Brooklyn, NY; Government Scientific Source (GSS), Reston, VA; Lauren Sciences, New York, NY; Locus Biosciences, Morrisville, NC; Maxim Biomedical, Inc., Rockville, MD; MedsForAll, Inc., Seattle, WA; Pirouette Medical, Boston, MA; and University of Washington, Seattle, WA, have been added as parties to this venture.

Also, AEQUOR, Inc., Oceanside, CA; Albany Molecular Research Inc. (AMRI), Albany, NY; Binergy Scientific, Inc., Atlanta, GA; New Mexico Institute of Mining and Technology, Socorro, NM; Polo Custom Products, Topeka, KS; and SENTEL Corporation, Alexandria, VA, have withdrawn as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on October 16, 2018. A notice was published in the Federal Register pursuant to Section 6(b) of the Act on November 7, 2018 (83 FR 55739).

Suzanne Morris,
Chief, Premerger and Division Statistics Unit, Antitrust Division.

[FR Doc. 2019-03527 Filed 2-27-19; 8:45 am]

BILLING CODE 4410-11-P